DEPARTMENT OF HEALTH AND HUMAN SERVICES

Administration for Children and Families

[ACYF/FYSB 2004-0006]

Notice of Correction for the FY04 Street Outreach Program Announcement HHS-2004-ACF-ACYF-YO-0016 CFDA# 93.557

AGENCY: Administration on Children, Youth, and Families, ACF, DHHS.

ACTION: Notice of correction.

SUMMARY: This notice is to inform interested parties of corrections made to the Street Outreach program Announcement published on Tuesday, April 27, 2004. The following corrections should be noted:

Under cost sharing or Matching Required: The paragraph should read as follows: Grantees must provide at least 10% of the Federal project dollars of the project. The non-Federal share may be met by cash or in-kind contributions, although applicants are encouraged to meet their match requirements through cash contributions. For example, in order to meet the match requirements, a project requesting $200,000 federal dollars, must provide a match of at least $20,000.

Under Application Review Information, Evaluation: Evaluation paragraph is deleted and new paragraph is inserted for Staff and Position Data and reads as follows:

Staff and Position Data

Provide a biographical sketch for each key person appointed and a job description for each vacant key position. A biographical sketch will also be required for new key staff as appointed.

FOR FURTHER INFORMATION CONTACT: ACYF Operations Center at (866) 796-1591 or fysb@dixongroup.com.

Dated: May 21, 2004.
Joan E. Ohl.
Commissioner, Administration on Children, Youth and Families.

[FR Doc. 04-12350 Filed 5-28-04; 8:45 am]

BILLING CODE 4184-01-P